DEPARTMENT OF LABOR

Mine Safety and Health Administration

Affirmative Decisions on Petitions for Modification

AGENCY: Mine Safety and Health Administration (MSHA), Labor.

ACTION: Notice of Affirmative Decisions on Petitions for Modification Granted in Whole or in Part.

SUMMARY: The Mine Safety and Health Administration (MSHA) enforces mine operator compliance with mandatory safety and health standards that protect miners and improve safety and health conditions in U.S. Mines. This Federal Register Notice (FR Notice) notifies the public that it has investigated and issued a final decision on certain mine operator petitions to modify a safety standard.

ADDRESSES: Copies of the final decisions are posted on MSHA's Web Site at http://www.msha.gov/indexes/petition.htm. The public may inspect the petitions and final decisions during normal business hours in MSHA's Office of Standards, Regulations, and Variances, 1100 Wilson Boulevard, Room 2349, Arlington, Virginia 22209. All visitors must first stop at the receptionist desk on the 21st Floor to sign-in.

FOR FURTHER INFORMATION CONTACT: Edward Sexauer, Chief, Regulatory Development Division at 202-693-9444 (Voice), sexauer.edward@dol.gov (E-mail), or 202-693-9441 (Telefax), or Barbara Barron at 202-693-9447 (Voice), barron.barbara@dol.gov (E-mail), or 202-693-9441 (Telefax). [These are not toll-free numbers].

SUPPLEMENTARY INFORMATION:

I. Introduction

Under section 101 of the Federal Mine Safety and Health Act of 1977, a mine operator may petition and the Secretary of Labor (Secretary) may modify the application of a mandatory safety standard to that mine if the Secretary determines that: (1) An alternative method exists that will guarantee no less protection for the miners affected than that provided by the standard; or (2) that the application of the standard will result in a diminution of safety to the affected miners.

MSHA bases the final decision on the petitioner's statements, any comments and information submitted by interested persons, and a field investigation of the conditions at the mine. In some instances, MSHA may approve a petition for modification on the condition that the mine operator complies with other requirements noted in the decision.

II. Granted Petitions for Modification

On the basis of the findings of MSHA's investigation, and as designee of the Secretary, MSHA has granted or partially granted the following petitions for modification:

• Docket Number: M-2005-056-C:

FR Notice: 70 FR 48984 (August 22, 2005).

Petitioner: Hawthorne Coal Company, Inc., 2708 Cranberry Square, Morgantown, West Virginia 26505.

Mine: Hawthorne Preparation Plant, MSHA I.D. No. 46-05544.

Regulation Affected: 30 CFR 77.214(a) (Refuse piles; general).

• Docket Number: M-2005-074-C:

FR Notice: 70 FR 71861 (November 30, 2005).

Petitioner: Brooks Run Mining Company, LLC, 25 Little Birch Road, Sutton, West Virginia 25601.

Mine: Saylor Mine, MSHA I.D. No. 46-09126.

Regulation Affected: 30 CFR 75.1002 (Installation of electric equipment and conductors; permissibility).

• Docket Number: M-2005-079-C:

FR Notice: 70 FR 76892 (December 28, 2005).

Petitioner: R S & W Coal Company, Inc., 207 Creek Road, Klingerstown, Pennsylvania 17941.

Mine: R S & W Drift Mine, MSHA I.D. No. 36-01818 .

Regulation Affected: 30 CFR 75-1312(a), (b), and (e)(1) (Explosives and detonators in underground magazines).

• Docket Number: M-2005-080-C:

FR Notice: 70 FR 76892 (December 28, 2005).

Petitioner: Canyon Fuel Company, LLC, 397 South 800 West, Salina, Utah 84654.

Mine: West Elk Mine, MSHA I.D. No. 05-03672; SUFCO Mine, MSHA I.D. No. 42-00089; Skyline Mine No. 3, MSHA I.D. No. 42-01566; and Dugout Canyon Mine, MSHA I.D. No. 42-01890.

Regulation Affected: 30 CFR 75.1909(b)(6) (Nonpermissible diesel-powered equipment; design and performance requirements).

• Docket Number: M-2005-085-C:

FR Notice: 71 FR 3890 (January 24, 2006).

Petitioner: Anthracite Underground Rescue, Inc., 44 Crescent Street, Tremont, Pennsylvania 17981, for the following Anthracite Underground Coal Mines in District 1: R S & W Coal Company, R S & W Drift Mine, (MSHA I.D. No. 36-01818); Orchard Coal Company, Orchard Slope Mine, (MSHA I.D. No. 36-08346); S & M Coal Company, Buck Mountain Slope Mine, (MSHA I.D. No. 36-02022); R & R Coal Company, R & R Coal Company Mine, (MSHA I.D. No. 36-08498); R & D Coal Company, R & D Coal Co., Inc. Mine, (MSHA I.D. No. 36-02053); F.K.Z. Coal Company, No. 1 Slope Mine, (MSHA I.D. No. 36-08637); Snyder Coal Company, N & L Slope Mine, (MSHA I.D. No. 36-02203); Joliett Coal Company, #3 Vein Slope Mine, (MSHA I.D. No. 36-08702); Tito Coal Company, Whites Vein Slope Mine, (MSHA I.D. No. 36-06815); Alfred Brown Coal Company, 7 Ft. Slope Mine, (MSHA I.D. No. 36-08893); Chestnut Coal Company, No. 10 Slope Mine, (MSHA I.D. No. 36-07059); Six M Coal Company No. 1 Slope Mine, (MSHA I.D. No. 36-09138); B & B Coal Company, Rockridge No. 1 Slope Mine, (MSHA I.D. No. 36-07741); Snyder Coal Company, Rock Slope #1 Mine, (MSHA I.D. No. 36-09256); UAE Coalcorp Association, Harmony Mine, (MSHA I.D. No. 36-07838); Little Buck Coal Company, No. 2 Slope Mine, (MSHA I.D. No. 36-08299); Bear Gap Coal Company, Bear Gap #6 Slope Mine, (MSHA I.D. No. 36-09296); D & D Anthracite Coal Company, Primrose Slope Mine, (MSHA I.D. No. 36-08341).

Regulation Affected: 30 CFR 49.6(a)(1) & (5) (Equipment and maintenance requirements).

• Docket Number: M-2006-008-C:

FR Notice: 71 FR 17145 (April 5, 2006).

Petitioner: Bridger Coal Company, P.O. Box 68, Point of Rocks, Wyoming 82942.

Mine: Bridger Underground Coal Mine, MSHA I.D. No. 48-01646.

Regulation Affected: 30 CFR 75.1909(b)(6) (Non-permissible diesel-powered equipment; design and performance; requirements).

• Docket Number: M-2006-013-C:

FR Notice: 71 FR 28715 (May 17, 2006).

Petitioner: Twentymile Coal Company, Three Gateway Center, Suite 1340, 401 Liberty Avenue, Pittsburgh, Pennsylvania 15222.

Mine: Foidel Creek Mine, MSHA I.D. No. 05-03836.

Regulation Affected: 30 CFR 75.362(a)(2) (On-shift examination).

• Docket Number: M-2006-017-C:

FR Notice: 71 FR 50947 (August 28, 2006).

Petitioner: AMFIRE Mining Company, LLC, One Energy Place, Latrobe, Pennsylvania 15650.

Mine: Gillhouser Run Mine, MSHA I.D. No. 36-09033.

Regulation Affected: 30 CFR 75.1100-2(e)(2) (Quantity and location of firefighting equipment).

• Docket Number: M-2006-018-C:

FR Notice: 71 FR 50947 (August 28, 2006).

Petitioner: Eastern Associated Coal Company, LLC, Three Gateway Center, Suite 1340, 401 Liberty Avenue, Pittsburgh, Pennsylvania 15222.

Mine: Federal No. 2 Mine, MSHA I.D. No. 46-01456.

Regulation Affected: 30 CFR 75.1700 (Oil and gas wells).

• Docket Number: M-2006-019-C:

FR Notice: 71 FR 53134 (September 8, 2006).

Petitioner: F K Z Coal, Inc., P.O. Box 62, Locust Gap, Pennsylvania 17840.

Mine: No. 1 Slope Mine, MSHA I.D. No. 36-08637.

Regulation Affected: 30 CFR 75.1400 (Hoisting equipment; general).

• Docket Number: M-2006-020-C:

FR Notice: 71 FR 53135 (September 8, 2006).

Petitioner: McElroy Coal Company, RD #4, Box 425, Route 2, Moundsville, West Virginia 26041.

Mine: McElroy Mine, MSHA I.D. No. 46-01437.

Regulation Affected: 30 CFR 77.214(a) (Refuse piles; general).

• Docket Number: M-2006-021-C:

FR Notice: 71 FR 53135 (September 8, 2006).

Petitioner: AMFIRE Mining Company, One Energy Place, Latrobe, Pennsylvania 15650.

Mine: Madison Mine, MSHA I.D. No. 36-09127.

Regulation Affected: 30 CFR 75.1100-2(e)(2) (Quantity and location of firefighting equipment).

• Docket Number: M-2006-042-C:

FR Notice: 71 FR 56179 (September 26, 2006).

Petitioner: Drummond Company, Inc., P.O. Box 10246, Birmingham, Alabama 35202.

Mine: Shoal Creek Mine, MSHA I.D. No. 01-02901.

Regulation Affected: 30 CFR 75.507 (Power connection points).

• Docket Number: M-2006-057-C:

FR Notice: 71 FR 56180 (September 26, 2006).

Petitioner: Excel Coal Company, RD #2, Box 665, Shamokin, Pennsylvania 17872.

Mine: Three S Slope Mine, MSHA I.D. No. 36-09309.

Regulation Affected: 30 CFR 75.1400 (Hoisting equipment; general).

• Docket Number: M-2006-059-C:

FR Notice: 71 FR 56180 (September 26, 2006).

Petitioner: Excel Coal Company, RD #2, Box 665, Shamokin, Pennsylvania 17872.

Mine: Three S Slope Mine, MSHA I.D. No. 36-09309.

Regulation Affected: 30 CFR 75.1200(d) and (i) (Mine map).

• Docket Number: M-2006-060-C:

FR Notice: 71 FR 56180 (September 26, 2006).

Petitioner: Excel Coal Company, RD #2, Box 665, Shamokin, Pennsylvania 17872.

Mine: Three S Slope Mine, MSHA I.D. No. 36-09309.

Regulation Affected: 30 CFR 49.2(b) (Availability of mine rescue teams).

• Docket Number: M-2006-061-C:

FR Notice: 71 FR 56180 (September 26, 2006).

Petitioner: Big River Mining, LLC, P.O. Box 186, New Haven, West Virginia 25626.

Mine: Broad Run Mine, MSHA I.D. No. 46-09136.

Regulation Affected: 30 CFR 75.900 (Low- and medium-voltage circuits serving three-phase alternating current equipment; circuit breakers).

• Docket Number: M-2006-064-C:

FR Notice: 71 FR 58434 (October 3, 2006).

Petitioner: Bridger Coal Company, P.O. Box 68, Point of Rocks, Wyoming 82942.

Mine: Bridger Underground Mine, MSHA I.D. No. 48-01646.

Regulation Affected: 30 CFR 75.500(d) (Permissible electric equipment).

• Docket Number: M-2006-065-C:

FR Notice: 71 FR 58434 (October 3, 2007).

Petitioner: Bridger Coal Company, P.O. Box 68, Point of Rocks, Wyoming 82942.

Mine: Bridger Underground Mine, MSHA I.D. No. 48-01646.

Regulation Affected: 30 CFR 75.1002 (Installation of electric equipment and conductors, permissibility).

• Docket Number: M-2006-071-C:

FR Notice: 71 FR 70549 (December 5, 2006).

Petitioner: Excel Coal Company, RD #2, Box 665, Shamokin, Pennsylvania 17872.

Mine: Three S Slope Mine, MSHA I.D. No. 36-09309.

Regulation Affected: 30 CFR 75.1202 and 30 CFR 75.1202-1(a) (Temporary notations, revisions, and supplements).

• Docket Number: M-2006-072-C:

FR Notice: 71 FR 70549 (December 5, 2006).

Petitioner: Excel Coal Company, RD #2, Box 665, Shamokin, Pennsylvania 17872.

Mine: Three S Slope Mine, MSHA I.D. No. 36-09309.

Regulation Affected: 30 CFR 49.6(a)(1) & (5) (Equipment and maintenance requirements).

• Docket Number: M-2006-073-C:

FR Notice: 71 FR 70550 (December 5, 2006).

Petitioner: T.J.S. Mining, Inc., 2340 Smith Road, Shelocta, Pennsylvania 15774.

Mine: Rossmoyne No. 1 Mine, MSHA I.D. No. 36-09075; T.J.S. No. 5 Mine, MSHA I.D. No. 36-09159; T.J.S. No. 6 Mine, MSHA I.D. No. 36-09464.

Regulation Affected: 30 CFR 75.1100-2(e)(2) (Quantity and location of firefighting equipment).

• Docket Number: M-2006-082-C:

FR Notice: 72 FR 8202 (February 23, 2007).

Petitioner: Rosebud Mining Company, 301 Market Street, Kittanning, Pennsylvania 16201.

Mine: Penfield Mine, MSHA I.D. No. 36-09355.

Regulation Affected: 30 CFR 75.1100-2(e)(2) (Quantity and location of firefighting equipment).

• Docket Number: M-2006-083-C:

FR Notice: 72 FR 8203 (February 23, 2007).

Petitioner: Dominion Coal Corporation, P.O. Box 70, Vansant, Virginia 24656.

Mine: Dominion No. 22 Mine, MSHA I.D. No. 44-06645.

Regulation Affected: 30 CFR 77.214(a) (Refuse piles; general).

• Docket Number: M-2006-084-C:

FR Notice: 72 FR 8203 (February 23, 2007).

Petitioner: The North American Coal Corporation, P.O. Box 399, Jourdanton, Texas 78026.

Mine: San Miguel Mine, MSHA I.D. No. 41-02840.

Regulation Affected: 30 CFR 77.803 (Fail safe ground check circuits on high-voltage resistance grounded systems).

• Docket Number: M-2006-087-C:

FR Notice: 72 FR 8204 (February 23, 2007).

Petitioner: Energy West Mining Company, P.O. Box 310, Huntington, Utah 84528.

Mine: Deer Creek Mine, MSHA I.D. No. 42-00121 and Bridger Underground Coal Mine, MSHA I.D. No. 48-01646.

Regulation Affected: 30 CFR 75.1909(b)(6) (Nonpermissible diesel-powered equipment; design and performance requirements).

• Docket Number: M-2006-089-C:

FR Notice: 72 FR 8205 (February 23, 2007).

Petitioner: The Ohio Valley Coal Company, 56854 Pleasant Ridge Road, Alledonia, Ohio 43902.

Mine: Powhatan No. 6 Mine, MSHA I.D. No. 33-01159.

Regulation Affected: 30 CFR 75.507 (Power connection points).

• Docket Number: M-2006-090-C:

FR Notice: 72 FR 20886 (April 26, 2007).

Petitioner: Dominion Coal Corporation, P.O. Box 207, Tazewell, Virginia 24651.

Mine: Mine No. 26, MSHA I.D. No. 44-06718.

Regulation Affected: 30 CFR 77.214(a) (Refuse files; general).

• Docket Number: M-2007-003-C:

FR Notice: 72 FR 20887 (April 26, 2007).

Petitioner: Summit Engineering, Inc., on behalf of Stirrat Coal Company, P.O. Box 484, Omar, West Virginia 25638.

Mine: Mine No. 21, MSHA I.D. No. 46-02515.

Regulation Affected: 30 CFR 77.214(a) (Refuse piles; general).

• Docket Number: M-2007-015-C:

FR Notice: 72 FR 31860 (June 8, 2007).

Petitioner: Summit Engineering, Inc., on behalf of Spartan Mining Company, P.O. Box 130, 3016 Route 10, Chapmanville, West Virginia 25508.

Mine: No. 38 Mine, MSHA I.D. No. 46-07874.

Regulation Affected: 30 CFR 77.214(a) (Refuse piles; general).

• Docket Number: M-2007-021-C:

FR Notice: 72 FR 30396 (May 31, 2007).

Petitioner: Black Beauty Coal Company, P.O. Box 347, Francisco, Indiana 47649.

Mine: Francisco Mine-Underground Pit, MSHA I.D. No. 12-02295.

Regulation Affected: 30 CFR 75.1909(b)(6) (Nonpermissible diesel-powered equipment; design and performance requirements).

• Docket Number: M-2007-023-C:

FR Notice: 72 FR 31862 (June 8, 2007).

Petitioner: Little Buck Coal Company, 57 Lincoln Road, Pine Grove, Pennsylvania 17963.

Mine: Bottom Split Slope Mine, MSHA I.D. 36-09491.

Regulation Affected: 30 CFR 75.1200(d) and (i) (Mine map).

• Docket Number: M-2007-024-C:

FR Notice: 72 FR 31862 (June 8, 2007).

Petitioner: Little Buck Coal Company, 57 Lincoln Road, Pine Grove, Pennsylvania 17963.

Mine: Bottom Split Slope Mine, MSHA I.D. No. 36-09491.

Regulation Affected: 30 CFR 75.1202-1(a) (Temporary notations, revisions, and supplements).

• Docket Number: M-2007-025-C:

FR Notice: 72 FR 31862 (June 8, 2007).

Petitioner: Little Buck Coal Company, 57 Lincoln Road, Pine Grove, Pennsylvania 17963.

Mine: Bottom Split Slope Mine, MSHA I.D. No. 36-09491.

Regulation Affected: 30 CFR 75.1400 (Hoisting equipment; general).

• Docket Number: M-2006-013-M:

FR Notice: 72 FR 8202 (February 23, 2007).

Petitioner: Vulcan Construction Materials, L.P., 3001 Alcoa Highway, Knoxville, Tennessee 37920.

Mine: Richmond Road Underground Mine, MSHA I.D. No. 15-00107.

Regulation Affected: 30 CFR 49.2(c) (Availability of mine rescue teams).

• Docket Number: M-2006-014-M:

FR Notice: 72 FR 8202 (February 23, 2007).

Petitioner: Vulcan Construction Materials, L.P., 3001 Alcoa Highway, Knoxville, Tennessee 37920.

Mine: Central Underground Mine, MSHA I.D. No. 15-00016.

Regulation Affected: 30 CFR 49.2 (Availability of mine rescue teams).

• Docket Number: M-2006-015-M:

FR Notice: 72 FR 8202 (February 23, 2007).

Petitioner: Rogers Group, Inc., 2182 West Industrial Park Drive, Bloomington, Indiana 47404.

Mine: Jefferson County Stone Underground Mine, MSHA I.D. No. 15-18157.

Regulation Affected: 30 CFR 49.2 (Availability of mine rescue teams).

Dated: November 27, 2007.
Jack Powasnik,
Deputy Director, Office of Standards, Regulations, and Variances.

[FR Doc. E7-23395 Filed 11-30-07; 8:45 am]

BILLING CODE 4510-43-P